DEPARTMENT OF AGRICULTURE

National Agricultural Statistics Service

Notice of Intent To Reinstate an Information Collection

AGENCY: National Agricultural Statistics Service, USDA.

ACTION: Notice and request for comments.

SUMMARY: In accordance with the Paperwork Reduction Act of 1995, this notice announces the intention of the National Agricultural Statistics Service (NASS) to seek reinstatement of an information collection, the Census of Agriculture Content Test. Response to this survey will be voluntary.

DATES: Comments on this notice must be received by May 18, 2015 to be assured of consideration.

ADDRESSES: You may submit comments, identified by docket number 0535-0243, by any of the following methods:

• Email: ombofficer@nass.usda.gov. Include docket number above in the subject line of the message.

• eFax: (855) 838-6382

• Mail: Mail any paper, disk, or CD- ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336 South Building, 1400 Independence Avenue SW., Washington, DC 20250-2024.

FOR FURTHER INFORMATION CONTACT: R. Renee Picanso, Associate Administrator, National Agricultural Statistics Service, U.S. Department of Agriculture, (202) 720-2707. Copies of this information collection and related instructions can be obtained without charge from David Hancock, NASS-OMB Clearance Officer, at (202) 690-2388 or at ombofficer@nass.usda.gov.

SUPPLEMENTARY INFORMATION: Title: Census of Agriculture Content Test.

OMB Control Number: 0535-0243.

Type of Request: Intent to Seek Reinstatement of an Information Collection.

Abstract: The Census of Agriculture, conducted every five years, is the primary source of statistics concerning the Nation's agricultural industry and provides the basis for the Nation's comparable and robust agricultural data. Results of the 2012 Census of Agriculture are available on the Web at http://www.agcensus.usda.gov/. This Information Collection activity will reinstate the Census of Agriculture Content Test. The purpose of this Content Test is to evaluate proposed changes to the survey methodology and content to reduce respondent burden and maintain the relevance of quality of statistics produced using the Census of Agriculture: Questionnaire format and design, new questions, changes to question wording and location, overall respondent burden, ease of completion, and processing methodology (such as editing and data summary). Results of this test will be studied in preparation for the 2017 Census of Agriculture. Development of the test questionnaire version will come from evaluation of the 2012 Census of Agriculture, testing panels, and cognitive interviews. NASS will also meet with other USDA and Federal agencies and selected State Departments of Agriculture to gather information on data uses and, in some cases, justifications for county-level data. The test will be nation-wide, excluding Alaska and Hawaii, and will be conducted in three phases. For Phase One, a stratified random sample of approximately 50,000 farm and ranch operators will be mailed questionnaires; stratification will be used to ensure sufficient coverage of various sizes, locations and types of agricultural operations. The sample will be divided into control and treatment groups to test alternative versions of the questionnaires. Non-respondents will receive follow-up contact by first mail, then telephone.

Phase Two will consist of up to 400 randomly selected agricultural operations that will be asked to participate in cognitive interviews. The sample will consist of some agricultural operations that completed the questionnaire in Phase One, as well as some additional operations selected to ensure sufficient size of comparison groups. The cognitive interviews conducted with Phase One respondents will be used to improve the overall 2017 Census of Agriculture questionnaire by allowing NASS to follow-up with respondents to better understand unusual responses and to ascertain question comprehension. The remainder of the cognitive interview sample will be randomly selected from operations to meet size and type criteria to ensure sufficient cases for quantitative comparisons. The cognitive interviews of this group will test further 2017 Census of Agriculture questionnaire variations, including the Internet version.

For Phase Three a stratified random sample of approximately 15,000 will be mailed letters asking them to go to a supplied Internet address to complete the survey. Stratification will be used to ensure sufficient coverage of various sizes and types of agricultural operations. The sample will be divided into control and treatment groups to test alternative versions of the on-line questionnaires and methods to increase on-line response. Non-respondents will receive follow-up contact by mail.

Response to all phases of the Census of Agriculture Content Test are voluntary.

Authority: Although the Census of Agriculture is required by law (“Census of Agriculture Act of 1997,” Public Law 105-113, 7 U.S.C. 2204(g) as amended), this Content Test is voluntary. These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Reporting burden for Phase One, (mailout survey) of this collection of information is estimated to average 50 minutes per completed response and two (2) minutes per refusal. This was determined by our experience from past Censuses of Agriculture and by our survey methodologists, based on the length and difficulty of similar surveys. Burden is based on an estimated minimum response rate of 58%. This anticipated response rate is based on similar types of voluntary mail surveys and through the use of a mail questionnaire and (limited) telephone follow-up to non-respondents. After removing ineligible cases (those operations out of business or similar), we anticipate a 50% response rate.

Reporting burden for Phase Two, (cognitive interviews) of this collection of information is estimated to average 120 minutes per completed response and five (5) minutes per refusal. This was determined by our survey methodologists who compared the questionnaire length and difficulty with previous cognitive pretests NASS has conducted.

Reporting burden for Phase Three, (internet test) of this collection of information is estimated to average 40 minutes per completed response and two (2) minutes per refusal. This was determined by our experience from past Censuses of Agriculture and by our survey methodologists, who compared the questionnaire length and difficulty with similar surveys. Since Phase Three is Internet only, the average time to complete the questionnaire is less than for Phase One (paper questionnaire and phone follow-up responses only) since the Internet version is faster due to automated routing. Burden is based on an estimated minimum response rate of 53%, which is similar to response rates observed for voluntary Internet based surveys of a similar nature.

Respondents: Potential farm and ranch operators.

Estimated Number of Respondents: 65,400 farmers and/or ranchers.

Estimated Total Annual Burden on Respondents: 42,000 hours (This is based on the expected response rates explained above.)

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological or other forms of information technology collection methods.

All responses to this notice will become a matter of public record and be summarized in the request for OMB approval.

Signed at Washington, DC, February 18, 2015.
R. Renee Picanso,
Associate Administrator.

[FR Doc. 2015-06324 Filed 3-18-15; 8:45 am]

BILLING CODE 3410-20-P